NATIONAL AERONAUTICS AND SPACE ADMINISTRATION

14 CFR Part 1245

[Notice: (07-083)]

RIN 2700-AD35

Patents and Other Intellectual Property Rights

AGENCY: National Aeronautics and Space Administration.

ACTION: Final rule.

SUMMARY: NASA is amending its regulations by removing NASA's Foreign Patent Licensing Regulations. NASA no longer follows these regulations, but issues licenses based on Government-wide licensing regulations promulgated by the Department of Commerce that take precedence over individual agency licensing regulations.

EFFECTIVE DATE: November 21, 2007.

FOR FURTHER INFORMATION CONTACT: Alan Kennedy, Commercial and Intellectual Property Law Practice Group, Office of the General Counsel, NASA Headquarters, telephone (202) 358-2065, fax (202) 358-4341.

SUPPLEMENTARY INFORMATION: The Department of Commerce issued Government-wide regulations which prescribe the terms, conditions, and procedures upon which a federally-owned invention may be licensed both internationally and domestically. The Department of Commerce regulations take precedence over individual agency licensing regulations. NASA grants licenses in accordance with the Department of Commerce regulations. Thus, NASA is cancelling its foreign licensing regulations.

List of Subjects in 14 CFR Part 1245

Authority delegations (Government agencies), Inventions and patents.

Under the authority, 42 U.S.C. 2473, 14 CFR part 1245 is amended as follows:

PART 1245—PATENTS AND OTHER INTELLECTUAL PROPERTY RIGHTS

1. The authority citation for part 1245 continues to read as follows:

Authority: 42 U.S.C. 2457, 35 U.S.C. 200 et seq.

Subpart 4—[Removed and Reserved]

2. Remove and reserve Subpart 4, consisting of §§ 1245.400 through 1245.405.

Michael D. Griffin,
Administrator.

[FR Doc. E7-22704 Filed 11-20-07; 8:45 am]

BILLING CODE 7510-13-P